DEPARTMENT OF HOMELAND SECURITY

Coast Guard

[Docket No. USCG-2010-1104]

Intent To Prepare Programmatic Environmental Assessment Statement for the Nationwide Implementation of the Interagency Operations Centers

AGENCY: Coast Guard, DHS.

ACTION: Notice of intent and request for comments.

SUMMARY: The Coast Guard announces its intent to prepare a Programmatic Environmental Assessment (PEA) for the proposed nationwide implementation of the Interagency Operations Centers (IOC) Project and requests public comments on the scope of the PEA.

DATES: Comments and related material must either be submitted to our online docket via http://www.regulations.gov on or before January 18, 2011 or reach the Docket Management Facility by that date.

ADDRESSES: You may submit comments identified by docket number USCG-2010-1104 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, please contact CAPT Alan Arsenault, Coast Guard, telephone 202-475-3717 or e-mail alan.n.arsenault@uscg.mil. If you have questions on viewing or submitting material to the docket, call Renee V. Wright, Program Manager, Docket Operations, telephone 202-366-9826.

SUPPLEMENTARY INFORMATION:

Public Participation and Request for Comments

We encourage you to submit comments and related material on the scope of this PEA. Specifically, the Coast Guard requests input on any environmental concerns that the public may have related to the development of IOCs throughout the United States, sources of relevant data or information, and any suggested analysis methods for inclusion in the PEA. All comments received will be posted, without change, to http://www.regulations.gov and will include any personal information you have provided.

Submitting comments: If you submit a comment, please include the docket number for this notice (USCG-2010-1104) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2010-1104” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2010-1104” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

SAFE Port Act and the IOC Project

The Security and Accountability for Every Port Act of 2006 (SAFE Port Act), Public Law 109-347, 120 Stat. 1884, was enacted to improve maritime and United States port security through enhanced layered defenses. Section 108 of the SAFE Port Act directs the establishment of IOCs at all high priority ports that “utilize, as appropriate, the compositional and operations characteristics of existing centers” and are “organized to fit the security needs, requirements, and resources of the individual port area at which each is operating.”

The Coast Guard IOC Project will satisfy this mandate through the development and transformation of approximately 35 existing Coast Guard Sector Command Centers (SCCs) over the next 12 years into coordinated planning and operations centers.

Purpose of the IOC Project

The purpose of the proposed nationwide implementation of the IOC Project is to improve unity of effort among Federal, State, tribal, and local port partners with shared port security responsibilities by providing interagency command and control facilities to monitor approaching water-borne traffic at high priority ports in the United States and United States territories. The IOC's information systems, facilities, and sensor networks will provide the partner organizations with the ability to coordinate planning and operational activities to gain a proactive posture in preventing, protecting, responding, and recovering from emergency and illicit activities in the ports. In addition, the IOC Project will facilitate collaboration to gain efficiencies in operations execution, reduce redundant activities (e.g., multiple boardings of a vessel by different agencies), and share resources. The IOCs will improve tactical decision-making, situational awareness, operations monitoring/interoperability, rules-based processing, and joint planning in a coordinated interagency environment.

IOC Implementation

The Coast Guard plans to implement the development of the IOCs through upgrades or reconfiguration of current facilities, and through leasing or building new facilities to increase the capacity and space provided for security operations and interagency partners. Each IOC will be tailored to the individual needs of the ports, and will be operated in coordination with multiple partner agencies and organizations including Federal agencies, State, tribal, and local law enforcement, and port authorities.

The following table lists existing SCC locations being considered for reconfiguration to IOCs.

Addresses of SCC Locations Considered for Transformation to IOC
Hampton Roads, 4000 Coast Guard, Boulevard, Portsmouth, VA 23703-2199 | San Francisco, 1 Yerba Buena Island, San Francisco, CA 94130-9309 | Boston, 427 Commercial Street, Boston, MA 02109-1027 | Charleston, 196 Tradd St., Charleston, SC 29401-1817
Tampa-St. Petersburg, 600 8th Avenue SE, St. Petersburg, FL 33701-5099 | San Diego, 2710 Harbor Drive, N. San Diego, CA 92101-1028 | New York, 212 Coast Guard Drive, Staten Island, NY 10305 | Sault Ste. Marie, 337 Water St., Sault Ste., Marie, MI 49783-9501
Los Angeles/Long Beach, 1001 S. Seaside Ave., Bldg. 20, San Pedro, CA 90731-0208 | Puget Sound, 1519 Alaskan Way South, Seattle, WA 98134-1192 | Baltimore, 2401 Hawkins Point Rd., Baltimore, MD 21226-1797 | Long Island, 120 Woodward Ave., New Haven, CT 06512-3698
Ohio Valley, 600 Martin Luther King Jr., Mazzoli Federal Bldg., Rm 421, Louisville, KY 40202-2251 | Columbia River, 2185 SE Airport Rd., Warrenton, OR 97146-9693 | Delaware Bay, 1 Washington Avenue, Philadelphia, PA 19147-4395 | Mobile, South Broad St., Mobile, AL 36615
Northern New England, 259 High St., South Portland, ME 04106-0007 | Corpus Christi, 8930 Ocean Dr., Corpus Christi, TX 78419-5220 | Buffalo, 1 Fuhrmann Boulevard, Buffalo, NY 14203-3189 | Jacksonville, 4200 Ocean St., Atlantic Beach, FL 2233-2416
Southern New England, Little Harbor Rd., Woods Hole, MA 02543-1099 | Houston-Galveston, 9640 Clinton Dr., Houston, TX 77029-4328 | Detroit, 110 Mt. Elliot Ave., Detroit, MI 48207-4380 | Juneau, 2760 Sherwood Lane, Suite 2A, Juneau, AK 99801-8545
Lower Mississippi, 2 A W Wills Ave., Memphis, TN 38105-1502 | Key West, 100 Trumbo Rd., Key West, FL 33040-0005 | New Orleans, 201 Old Hammond Hwy., Metairie, LA 70005 | Anchorage, 510 L Street, Suite 100, Anchorage, AK 99501-1946
Lake Michigan, 2420 S. Lincoln Memorial Dr., Milwaukee, WI 53207-1997 | Miami, 100 MacArthur Causeway, Rm. 201, Miami Beach, FL 33139-5101 | Guam, PSC 455, Box 176, FPO, AP 96540-1056 | San Juan, 5 Calle La Puntilla Final, San Juan, PR 00901-1800
Upper Mississippi, 1222 Spruce St., Suite 7.103, St. Louis, MO 63103-2832 | Honolulu, 400 Sand Island Parkway, Honolulu, HI 96819-4398 | North Carolina, 2301 East Fort Macon Rd., Atlantic Beach, NC 28512-5633 |

The IOC Project will complement the maritime component of the Secure Border Initiative, a comprehensive, multi-year plan to help secure America's borders and will link capabilities across Federal, State, local, tribal, and private organizations.

IOCs will provide information systems, facilities, and sensors needed to conduct daily, 24/7 tactical coordination of port-level activities. They will deliver capabilities to automate and increase throughput of information for achieving Maritime Domain Awareness (MDA). Improving MDA will boost interagency communications and decision-makers' level of knowledge, and will help the Coast Guard make informed command and control decisions. Information throughput improvements will be achieved by networking Coast Guard and interagency partner sensors and then expanding these sensor networks to monitor vessel activities and detect anomalies from a distance. The Coast Guard will use an information management toolset, called WatchKeeper, to compile, organize, and apply data and knowledge collected by the expanded sensor network.

Preparation of the PEA

In accordance with Section 102(2)(c) of NEPA as implemented by the Council on Environmental Quality regulations (40 CFR 1500-1508), Department of Homeland Security Management Directive 023.1 (Environmental Planning Program), and Coast Guard National Environmental Policy Act Implementing Procedures and Policy for Considering Environmental Impacts, (COMDTINST M16475.1D), the Coast Guard intends to prepare a PEA for the implementation of the IOC Project.

The PEA will provide a general level of analysis of the Proposed Action and No Action alternative and the potential environmental impacts of implementation. Upon completion and acceptance of the PEA, the Coast Guard will conduct a site-specific Environmental Assessment (EA) or Categorical Exclusion (CATEX) at individual IOC locations that may warrant additional examination due to unique environmental characteristics.

Proposed Action

The IOC Project is currently not fully funded. However, as funding allows, the Coast Guard plans to implement the IOC Project in four phases or segments:

Segment 1 will establish processes and systems to link operations and data information between interagency partners and the Coast Guard. The Coast Guard will implement the WatchKeeper tool in Segment 1 to integrate vessel targeting, operations, monitoring, and operational planning. The Coast Guard Operations System Center will host WatchKeeper, with a minimal increase in computer infrastructure installed at the Operations System Center. Interagency partners will be allowed access to the information technology network to establish initial improved coordination efforts.

Segment 2 will establish an integrated interagency sensor network to link and enhance the Coast Guard's information management capability with that of its interagency partners. The Coast Guard plans to install hardware and software at each IOC location throughout Segment 2 to establish this interagency sensor network. The Coast Guard plans to survey existing remote sensors, currently mounted on short platforms, towers, rooftops, and poles for inclusion in the sensor network upgrade as part of Segment 2 implementation.

Segment 3 will expand the interagency sensor network and provide extended sensor network and components to fill critical situational awareness gaps and increase knowledge and data collected by the Coast Guard. The Coast Guard plans to acquire and install new sensors and the required network infrastructure to support the sensors, including wireless and wired hardware. The Coast Guard plans to install between 1 and 15 new sensors at each IOC location. New sensors will be mounted on existing short platforms, towers, rooftops, and poles similar to the installation of existing sensors. If the broad activities analyzed in the PEA do not adequately cover the site-specific actions required to install and mount new sensors or hardware, then the Coast Guard will tier follow-on EAs and CATEXs as appropriate on a case-by-case basis.

Segment 4 will expand existing facilities through upgrades to existing SCCs and lease or build new facilities to allocate additional work space capacity to the Coast Guard and its interagency partners, and through enhancing the existing information technology and electronics infrastructure at these locations. Segment 4 will require 4 new leases, 3 relocations, and 28 construction projects at existing SCCs to accommodate the space, infrastructure, and security requirements of the Coast Guard and its interagency partners. Facilities modifications to transform SCCs into IOCs will include increasing the capacity of the spaces used by Coast Guard personnel operating the IOC equipment, ensuring the co-location of the Sector Commander and the Command Center, and providing space to support Coast Guard surge-operations staff and interagency partner staff.

If the broad activities analyzed in the PEA do not adequately cover the site-specific actions required to construct, lease, or relocate IOC facilities, then the Coast Guard will tier follow-on EAs and CATEXs as appropriate on a case-by-case basis. The Coast Guards plans to implement Segment 4 in a parallel effort with Segments 1, 2, and 3, as funding allows.

The PEA will address the general environmental impacts of the Proposed Action and the No Action Alternative. The No Action Alternative will serve as a baseline against which to compare the potential impacts of the Proposed Action. The Coast Guard defines the No Action Alternative as not implementing the IOC Project, not complying with the mandate of the SAFE Port Act, and preventing the existing approximately 35 SSC facilities from being upgraded. The Proposed Action is the full implementation of Segments 1 through 4 described above.

The broad analysis of the PEA will not cover site-specific actions. The Coast Guard will address site-specific actions on a case-by-case basis as actions during the implementation of the four Segments and across the approximately 35 various SCC locations. The Coast Guard will conduct site-specific NEPA analyses and produce subsequent NEPA documentation coincident with project implementation during any Segment and in any SCC location to address environmental or human health impacts from any sensor mounting, installation, or facility construction project if necessary. Although the Coast Guard does not foresee major site-specific impacts at this time, the Coast Guard expects that the PEA will serve to facilitate and expedite the preparation of follow-on, project-specific NEPA documents, if applicable, at the SCC locations.

The Coast Guard does not expect that the Proposed Action will result in significant environmental or human health impacts. The Coast Guard plans to establish the IOC facilities and install the required sensors in previously developed sites within Coast Guard installations or other similar Federal or private locations. Any major infrastructure changes will be addressed in future site-specific NEPA documents. Any potentially significant impacts to any aspect of the affected environment including cultural resources, biological resources, water and marine resources, air quality, and public safety will be addressed and analyzed by the Coast Guard on a case-by-case basis in future site-specific NEPA documents.

Scoping Process

The Coast Guard encourages public participation in the PEA process. The scoping period will start with publication of this notice in the Federal Register. Please see the section on Public Participation and Request for Comments above for instructions on how to submit comments.

Following the scoping process, the Coast Guard will prepare the draft PEA and will publish a Notice of Availability in the Federal Register to make it available to the public and solicit comments on the draft PEA.

Authority

This notice is issued under authority of 42 U.S.C. 4321, et seq., and 40 CFR 1508.22.

Dated: December 9, 2010.
Alan Arsenault,
Captain, U.S. Coast Guard, Project Manager, Interagency Operation Centers Project.

[FR Doc. 2010-31639 Filed 12-15-10; 8:45 am]

BILLING CODE 9110-04-P